DEPARTMENT OF HEALTH AND HUMAN SERVICES

Food and Drug Administration

21 CFR Part 172

[Docket No. FDA-2014-F-0364]

Eastman Chemical Company; Filing of Food Additive Petition

AGENCY: Food and Drug Administration, HHS.

ACTION: Notice of petition.

SUMMARY: The Food and Drug Administration (FDA or we) is announcing that we have filed a petition, submitted by Eastman Chemical Company, proposing that the food additive regulations be amended to remove the upper bound of the melting point range in the regulation for the antioxidant TBHQ (tertiary butylhydroquinone) and add a purity acceptance criterion.

DATES: The food additive petition was filed on March 11, 2014.

ADDRESSES: See FOR FURTHER INFORMATION CONTACT for address.

FOR FURTHER INFORMATION CONTACT: Ellen Anderson, Center for Food Safety and Applied Nutrition (HFS-265), Food and Drug Administration, 5100 Paint Branch Pkwy., College Park, MD 20740-3835, 240-402-1309.

SUPPLEMENTARY INFORMATION: Under the Federal Food, Drug, and Cosmetic Act (section 409(b)(5) (21 U.S.C. 348(b)(5))), we are giving notice that we have filed a food additive petition (FAP 4A4803), submitted by Eastman Chemical Company, c/o Keller and Heckman LLP, 1001 G St. NW., suite 500 West, Washington, DC 20001. The petition proposes to amend the food additive regulations in § 172.185 (21 CFR 172.185) TBHQ to remove the upper bound of the melting point range specified in § 172.185(a) and to add an acceptance criterion for purity as measured by the percentage of TBHQ (not less than 99%) when tested by the titration assay specified in the most current edition of the Food Chemicals Codex.

We have determined under 21 CFR 25.30(i) that this action is of a type that does not individually or cumulatively have a significant effect on the human environment. Therefore, neither an environmental assessment nor an environmental impact statement is required.

Dated: April 1, 2014.
Dennis M. Keefe,
Director, Office of Food Additive Safety, Center for Food Safety and Applied Nutrition.

[FR Doc. 2014-07632 Filed 4-7-14; 8:45 am]

BILLING CODE 4160-01-P